DEPARTMENT OF COMMERCE

Office of the Secretary

[Docket No. 110613329-1329-01]

RIN 0605-AA29

15 CFR Part 4

Disclosure of Government Information

AGENCY: Department of Commerce.

ACTION: Final rule.

SUMMARY: This rule amends the Department of Commerce's (Department) Freedom of Information Act (FOIA) regulations by changing the officials authorized to deny requests for records under the Freedom of Information Act, and requests for correction or amendment under the Privacy Act (PA), for the Office of Inspector General.

DATES: Effective Date: July 7, 2011.

FOR FURTHER INFORMATION CONTACT: Wade Green, Jr., Counsel to the Inspector General, Office of Inspector General, 202-482-5992.

SUPPLEMENTARY INFORMATION: The regulations at Appendix B to 15 CFR part 4 designate the officials authorized to deny requests for records under the FOIA, and requests for records and requests for correction or amendment under the PA. The Department of Commerce amends these regulations by changing the designated officials for the “Office of Inspector General from the Counsel to the Inspector General; Deputy Counsel to the Inspector General” to the “FOIA Officer; Senior Associate Counsel to the Inspector General.”

Classification

Executive Order 12866: It has been determined that this notice is not significant for purposes of E.O. 12866.

Executive Order 13132: It has been determined that this notice does not contain policies with Federalism implications as that term is defined in E.O. 13132.

Paperwork Reduction Act: This rule does not involve a collection of information and, therefore, does not implicate requirements of the Paperwork Reduction Act of 1995 (44 U.S.C. 5201 et seq.) (PRA). Notwithstanding any other provisions of law, no person is required to respond to nor be subject to a penalty for failure to comply with a collection of information, subject to the requirements of the PRA, unless that collection of information displays a currently valid Office of Management and Budget (OMB) Control Number.

Administrative Procedure Act: Pursuant to 5 U.S.C. 553(b)(A), prior notice and an opportunity for public comment are not required by the Administrative Procedure Act for rules concerning agency organization, procedure, or practice. This rule merely changes the name of the officials who are authorized to deny requests for records under the Freedom of Information Act, and requests for correction or amendment under the Privacy Act.

Pursuant to 5 U.S.C. 553(e), the Department finds good cause to waive the 30-day delay in effectiveness. This rule merely changes the name of the officials who are authorized to deny requests for records under the Freedom of Information Act, and requests for correction or amendment under the Privacy Act.

Regulatory Flexibility Act: Because notice and opportunity for comment are not required pursuant to 5 U.S.C. 553 or any other law, the analytical requirements of the Regulatory Flexibility Act (5 U.S.C. 601 et seq.) are inapplicable. Therefore, a regulatory flexibility analysis is not required and has not been prepared.

List of Subjects in 15 CFR Part 4

Freedom of information, Privacy.

For the reasons above, amend 15 CFR Part 4 as follows:

PART 4—DISCLOSURE OF GOVERNMENT INFORMATION

1. The authority citation for part 4 continues to read as follows:

Authority: 5 U.S.C. 301; 5 U.S.C. 552; 5 U.S.C. 552a; 5 U.S.C. 553; 31 U.S.C. 3717; 44 U.S.C. 3101; Reorganization Plan No. 5 of 1950.

Appendix B to Part 4—[Amended]

2. In Appendix B to part 4, under the heading OFFICE OF THE SECRETARY, remove “Office of the Inspector General: Counsel to the Inspector General; Deputy Counsel to the Inspector General” and add in its place “Office of the Inspector General: FOIA Officer; Senior Associate Counsel to the Inspector General.”

Dated: June 29, 2011.
Jonathan R. Cantor,
Chief Privacy Officer.

[FR Doc. 2011-17016 Filed 7-6-11; 8:45 am]

BILLING CODE 3510-55-P